NUCLEAR REGULATORY COMMISSION

[NRC-2013-0251]

Proposed License Renewal of the Prairie Island Independent Spent Fuel Storage Installation

AGENCY: Nuclear Regulatory Commission.

ACTION: Draft environmental assessment and draft finding of no significant impact; request for comment.

SUMMARY: On October 20, 2011, Northern States Power Company, a Minnesota Corporation, (NSPM) (doing business as Xcel Energy), submitted an application to the U.S. Nuclear Regulatory Commission (NRC) requesting renewal of Special Nuclear Materials (SNM) license number SNM-2506 for the Prairie Island Nuclear Generating Plant (PINGP) site-specific Independent Spent Fuel Storage Installation (ISFSI) located in Red Wing, Goodhue County, Minnesota, for an additional 40 years. The NRC staff is conducting an environmental review of the proposed license renewal and has prepared a draft environmental assessment (EA) and draft finding of no significant impact (FONSI) in accordance with NRC regulations. The NRC is requesting public comments on the draft EA and the draft FONSI.

DATES: Submit comments by December 19, 2013. Comments received after this date will be considered if it is practical to do so, but the NRC is able to assure consideration only for comments received on or before this date.

ADDRESSES: You may submit comments by any of the following methods (unless this document describes a different method for submitting comments on a specific subject):

• Federal Rulemaking Web site: Go to http://www.regulations.gov and search for Docket ID NRC-2013-0251. Address questions about NRC dockets to Carol Gallagher; telephone: 301-287-3422; email: Carol.Gallagher@nrc.gov. For technical questions, contact the individuals listed in the FOR FURTHER INFORMATION CONTACT section of this document.

• Mail comments to: Cindy Bladey, Chief, Rules, Announcements, and Directives Branch, Office of Administration, Mail Stop: 3WFN-06-44M, U.S. Nuclear Regulatory Commission, Washington, DC 20555-0001.

For additional direction on accessing information and submitting comments, see “Accessing Information and Submitting Comments” in the SUPPLEMENTARY INFORMATION section of this document.

FOR FURTHER INFORMATION CONTACT: Jean Trefethen, Office of Federal and State Materials and Environmental Management Programs, U.S. Nuclear Regulatory Commission, Washington DC, 20555-0001; telephone: 301-415-7000; email: Jean.Trefethen@nrc.gov.

SUPPLEMENTARY INFORMATION:

I. Accessing Information and Submitting Comments

A. Accessing Information

Please refer to Docket ID NRC-2013-0251 when contacting the NRC about the availability of information regarding this document. You may access publicly-available information related to this document by any of the following methods:

• Federal Rulemaking Web site: Go to http://www.regulations.gov and search for Docket ID NRC-2013-0251.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft EA is available in ADAMS under Accession No. ML13205A120. The draft FONSI is included in the Draft EA.

• NRC's PDR: You may examine and purchase copies of public documents at the NRC's PDR, Room O1-F21, One White Flint North, 11555 Rockville Pike, Rockville, Maryland 20852.

B. Submitting Comments

Please include Docket ID NRC-2013-0251 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Summary of Draft Environmental Assessment and Draft Finding of No Significant Impact

The NRC staff has prepared a draft EA and draft FONSI (ADAMS Accession No. ML13205A120) under the NRC's regulations in part 51 of Title 10 of the Code of Federal Regulations (10 CFR), “Environmental Protection Regulations for Domestic Licensing and Related Regulatory Functions,” which implement the National Environmental Policy Act of 1969, as amended (NEPA) (42 U.S.C. 4321 et seq), for NSPM's application to renew license SNM-2506 for the Prairie Island (PI) site-specific ISFSI for up to an additional 40 years. In 1993, the NRC issued a 20-year license to NSPM to receive, possess, store, and transfer spent nuclear fuel generated at the PINGP, Units 1 and 2, in the PI ISFSI. License SNM-2506 currently allows NSPM to store up to 48 transnuclear-40 casks (TN-40) and TN-40 high thermal (TN-40HT) casks at the ISFSI. The PI ISFSI is located within the facility boundary of the PINGP, which is located within the city limits of Red Wing in Goodhue County, Minnesota, approximately 45 kilometers (km) [28 miles (mi)] southeast of the Minneapolis-St. Paul metropolitan area.

The proposed action is whether to renew the license for up to an additional 40 years. If approved, NSPM would continue to possess and store the PINGP, Units 1 and 2, spent fuel at the PI ISFSI under the requirements in 10 CFR part 72, “Licensing Requirements for the Independent Storage of Nuclear Fuel, High-Level Radioactive Waste, and Reactor-Related Greater than Class C Waste.” The NRC's regulations at 10 CFR 72.42 authorize the renewal of ISFSI-specific licenses for a period not to exceed 40 years. The NRC issued this provision, allowing for renewals of up to 40 years, in a final rule published in the Federal Register on February 16, 2011 (76 FR 8890).

The NRC staff's environmental review of the proposed license renewal is documented in the draft EA and draft FONSI, which was prepared in accordance with the NRC's regulations in 10 CFR part 51 and NRC staff guidance in NUREG-1748, “Environmental Review Guidance for Licensing Actions Associated with NMSS programs” (ADAMS Accession No. ML032450279). An EA (1) briefly provides sufficient evidence and analysis for determining whether to prepare an Environmental Impact Statement (EIS) or a FONSI, (2) facilitates creation of an EIS when one is necessary, and (3) aids the NRC's compliance with NEPA when an EIS is not necessary. Pursuant to 10 CFR 51.33, the NRC staff is making the draft EA and the draft FONSI available for public review and comment.

In October 2012, the NRC and the Prairie Island Indian Community (PIIC) entered into a Memorandum of Understanding (MOU) (ADAMS Accession No. ML12284A456). The MOU acknowledges the PIIC's special expertise in the areas of historic and cultural resources, socioeconomics, land use, and environmental justice as they relate to license renewal for the PI ISFSI, and establishes a cooperating agency relationship between the NRC and the PIIC. The MOU also defines the roles and responsibilities of both entities and the process they will use to prepare an EA that incorporates and reflects the PIIC's views in the areas of special expertise.

In the draft EA, the NRC staff describes the affected environment and evaluates the potential environmental impacts from the proposed 40-year renewal of license SNM-2506 on land use; transportation; socioeconomics; climatology, meteorology and air quality; geology and soils; water resources; ecology and threatened and endangered species; visual and scenic resources; noise; historic and cultural resources; public and occupational health and safety; waste management; and environmental justice. The draft EA also discusses the alternatives to the proposed action. The staff also evaluated the potential environmental impacts from decommissioning of the PI ISFSI, taking into consideration an additional 40 years of operation. Additionally, NRC staff analyzed the cumulative impacts from past, present, and reasonably foreseeable future actions when combined with the potential environmental impacts of the proposed action.

The NRC staff evaluated potential environmental impacts and categorized the impacts as follows:

• SMALL—environmental effects are not detectable or are so minor that they will neither destabilize nor noticeably alter any important attribute of the resource.

• MODERATE—environmental effects are sufficient to alter noticeably, but not to destabilize important attributes of the resource.

• LARGE—environmental effects are clearly noticeable and are sufficient to destabilize important attributes of the resource.

The NRC staff preliminarily finds that the impacts from the proposed action would be SMALL and, thus, not significant for all environmental resource areas. In addition, the NRC staff preliminarily concludes that there would be no disproportionately high and adverse impacts to minority and low-income populations, historical and cultural resources, and that Federally-listed threatened and endangered species are not likely to be adversely affected by the continued operation of the PI ISFSI during the proposed license renewal period.

The NRC staff is also performing a detailed safety analysis of the NSPM's license renewal application to assess compliance with 10 CFR part 20, “Standards for Protection Against Radiation,” and 10 CFR part 72, “Licensing Requirements for the Independent Storage of Spent Nuclear Fuel, High-Level Radioactive Waste, and Reactor-Related Greater Than Class C Waste.” The NRC staff's analysis will be documented in a separate safety evaluation report (SER). The NRC staff's decision whether to renew the NSPM's PI ISFSI license as proposed will be based on the results of the NRC staff's review as documented in the final EA, the final FONSI, and in the SER.

On June 8, 2012, the United States Court of Appeals for the District of Columbia Circuit [New York v. NRC, 681 F.3d 471 (D.C. Cir. 2012)], in response to a legal challenge to the NRC's Waste Confidence (WC) Decision and Rule Update, vacated the NRC's WC Decision and Rule Update (75 FR 81032 and 75 FR 81037). The Court held that the WC Decision and Rule Update is a major Federal action necessitating either an EIS or a FONSI, and the Commission's evaluation of the risks associated with the storage of spent nuclear fuel for at least 60 years beyond the licensed life of a reactor is deficient. In response to the Court's ruling, the Commission, in CLI-12-16 (ADAMS Accession No. ML12220A100), determined that it would not issue licenses dependent upon the WC Decision and Rule until the issues identified in the Court's decision are appropriately addressed. In CLI-12-16, the Commission also noted that this determination extends only to final license issuance; all current licensing reviews and proceedings should continue to move forward. The Commission directed the NRC staff to proceed with a rulemaking that includes the development of an EIS to support an updated WC Decision and Rule within 24 months (by September 2014).

The updated rule and supporting Generic EIS (GEIS) will provide the necessary NEPA analyses of waste-confidence-related environmental issues. As directed by the Commission, the NRC will not issue a renewed license for the PI ISFSI before waste-confidence-related issues are resolved. This will ensure the NRC's consideration of any resource commitments or potential harm to the environment before WC impacts have been addressed. If the results of the WC GEIS identify information that requires a supplement to this draft EA and draft FONSI, the NRC staff will perform any appropriate additional NEPA review for those issues before the NRC makes a final licensing decision.

Based on its review of the proposed action in the draft EA relative to the requirements set forth in 10 CFR part 51, the NRC staff has preliminarily determined that renewal of NRC license SNM-2506, which would authorize continued operation of the PI ISFSI in Goodhue County, Minnesota, for a period of up to 40 years, will not significantly affect the quality of the human environment. No significant changes in NSPM's authorized operations for the PI ISFSI were requested as part of the license renewal application. Approval of the proposed action would not result in any new construction or expansion of the existing ISFSI footprint beyond that previously approved. The ISFSI is a passive facility that produces no liquid or gaseous effluents. No significant radiological or nonradiological impacts are expected from continued normal operations. Occupational dose estimates from routine monitoring activities and transfer of spent fuel for disposal are expected to be at as low as reasonably achievable (ALARA) levels and are expected to be within the limits of 10 CFR 20.1201. The estimated annual dose to the nearest potential member of the public from ISFSI activities is 0.02 millisieverts/year (mSv/yr) [2.20 millirem/year (mrem/yr)], which is below the 0.25 mSv/yr [25 mrem/yr] limit specified in 10 CFR 72.104(a) and the 1 mSv/yr (100 mrem/yr) limit in 10 CFR 20.1301(a)(1). Therefore, based on this preliminary assessment, the NRC staff has preliminarily determined that an EIS is not warranted and, pursuant to 10 CFR 51.31, a FONSI is appropriate.

The draft EA and the draft FONSI for the proposed PI ISFSI license renewal will also be available at the following public library: Red Wing Public Library, 225 East Avenue, Red Wing, MN 55066.

Pursuant to 10 CFR 51.33, the NRC staff is making this draft EA and this draft FONSI available for public review and comment. In doing so, the NRC staff determined that preparation of the draft EA and the draft FONSI furthers the purposes of NEPA. Based on the comments received, the NRC staff may determine that a final FONSI is appropriate or instead find that preparation of an EIS is warranted should significant impacts resulting from the proposed action be identified. The NRC staff's final determination will be noticed in the Federal Register.

Dated at Rockville, Maryland, this 7th day of November 2013.
For the U.S. Nuclear Regulatory Commission.
Aby Mohseni,
Deputy Director, Environmental Protection and Performance Assessment Directorate, Division of Waste Management and Environmental Protection, Office of Federal and State Materials and Environmental Management Programs.

[FR Doc. 2013-27730 Filed 11-18-13; 8:45 am]

BILLING CODE 7590-01-P